DEPARTMENT OF COMMERCE

National Oceanic and Atmospheric Administration

[I.D. 011106C]

Endangered Species; File No. 1540

AGENCY: National Marine Fisheries Service (NMFS), National Oceanic and Atmospheric Administration (NOAA), Commerce.

ACTION: Notice; issuance of permit.

SUMMARY: Notice is hereby given that the South Carolina Department of Natural Resources, Marine Resources Division, P.O. Box 12559, Charleston, S.C. 29422-2559, has been issued a permit to take loggerhead (Caretta caretta), Kemp's ridley (Lepidochelys kempii), green (Chelonia mydas), leatherback (Dermochelys coriacea), and hawksbill (Eretmochelys imbricata) sea turtles for purposes of scientific research.

ADDRESSES: The permit and related documents are available for review upon written request or by appointment in the following office(s):

Permits, Conservation and Education Division, Office of Protected Resources, NMFS, 1315 East-West Highway, Silver Spring, MD 20910; phone (301)713-2289; fax (301)427-2521; and

Southeast Regional Office, Office of Protected Resources, NMFS, 263 13th Avenue South, St. Petersburg, FL 33701; phone (727) 824-5312; fax (727)824-5309.

FOR FURTHER INFORMATION CONTACT: Patrick Opay or Kate Swails, (301)713-2289.

SUPPLEMENTARY INFORMATION: On August 15, 2005, notice was published in the Federal Register (70 FR 47813) that a request for a scientific research permit to take loggerhead, Kemp's ridley, green, leatherback, and hawksbill sea turtles had been submitted by the applicant. The requested permit has been issued under the authority of the Endangered Species Act of 1973, as amended (ESA; 16 U.S.C. 1531 et seq.) and the regulations governing the taking, importing, and exporting of endangered and threatened species (50 CFR parts 222-226).

Researchers will capture up to 146 loggerhead (Caretta caretta), 48 Kemp's ridley (Lepidochelys kempii), 15 green (Chelonia mydas), 1 leatherback (Dermochelys coriacea), and 3 hawksbill (Eretmochelys imbricata), during the first year of the permit's five- year period. The permit authorizes research on up to 346 loggerhead, 48 Kemp's ridley, 15 green, 1 leatherback, and 3 hawksbill, sea turtles annually for the remaining four-years. Turtles will be captured by trawls, handled, blood sampled, measured, flipper and PIT tagged, photographed, and released. A subsample of animals will have barnacles and keratin removed from their shell, have cloacal samples taken, have laparoscopic and ultrasound exams, and have satellite transmitters attached. Up to 7 loggerhead and 1 leatherback may potentially be taken as accidental mortalities over the course of the entire permit. Additionally, up to 5 Kemp's ridley, green, or hawksbill sea turtles (combined total but no more than two of any given species) may potentially be taken as accidental mortalities over the course of the entire permit. The research will document size distributions, sex ratios, genetic contributions, and the health of sea turtles in coastal waters in the southeastern U.S. The research will take place in the waters from Winyah Bay, South Carolina to Cape Canaveral, Florida. The permit is issued for 5 years.

Issuance of this permit, as required by the ESA, was based on a finding that such permit (1) was applied for in good faith, (2) will not operate to the disadvantage of any endangered or threatened species, and (3) is consistent with the purposes and policies set forth in section 2 of the ESA.

Dated: February 6, 2006.
Stephen L. Leathery,
Chief, Permits, Conservation and Education Division, Office of Protected Resources, National Marine Fisheries Service.

[FR Doc. E6-1893 Filed 2-9-06; 8:45 am]

BILLING CODE 3510-22-S